FEDERAL COMMUNICATIONS COMMISSION

47 CFR Part 1

[DA 12-473]

Practice and Procedure; Correction

AGENCY: Federal Communications Commission.

ACTION: Correcting amendments.

SUMMARY: The Federal Communications Commission published in the Federal Register of November 16, 2011, a document amending § 1.229(b). Inadvertently, this rule was amended incorrectly. This document makes correcting amendments.

DATES: Effective January 28, 2013.

FOR FURTHER INFORMATION CONTACT: David Konczal, David.Konczal@fcc.gov, of the Media Bureau, Policy Division, (202) 418-2120.

SUPPLEMENTARY INFORMATION: The Federal Communications Commission (FCC or Commission) published a document in the Federal Register on November 16, 2011 (76 FR 70904) deleting § 1.229(b)(2) and redesignating § 1.229(b)(3) as § 1.229(b)(2). That document inadvertently failed to account for changes to § 1.229(b) that the FCC adopted in the Second Report and Order in MB Docket No. 07-42 on July 29, 2011, which were subsequently published in the Federal Register on September 29, 2011 (76 FR 60652) and took effect after the information collection requirements were approved by the Office of Management and Budget (“OMB”) under the Paperwork Reduction Act, 77 FR 6479, February 8, 2012. This document conforms the amendments to § 1.229(b) adopted in the Second Report and Order, which became effective on February 8, 2012, and to the amendments to § 1.229(b) that took effect previously on November 16, 2011.

List of Subjects in 47 CFR Part 1

Administrative practice and procedure, Claims, Investigations, Lawyers, Telecommunications.

Accordingly, 47 CFR part 1 is corrected by making the following correcting amendments:

PART 1—PRACTICE AND PROCEDURE

1. The authority citation for part 1 continues to read as follows:

Authority: 15 U.S.C. 79 et seq.; 47 U.S.C. 151, 154(i), 154(j), 155, 157, 225, 227, 303(r), and 309.

2. Section 1.229 is amended by revising paragraph (b)(2) and adding paragraph (b)(3) to read as follows:

§ 1.229 Motions to enlarge, change, or delete issues.

* * * * *

(b) * * *

(2) For program carriage complaints filed pursuant to § 76.1302 of this chapter that the Chief, Media Bureau refers to an administrative law judge for an initial decision, such motions shall be filed within 15 calendar days after the deadline for submitting written appearances pursuant to § 1.221(h), except that persons not named as parties to the proceeding in the designation order may file such motions with their petitions to intervene up to 30 days after publication of the full text or a summary of the designation order in the Federal Register. (See § 1.223).

(3) Any person desiring to file a motion to modify the issues after the expiration of periods specified in paragraphs (a), (b)(1), and (b)(2) of this section shall set forth the reason why it was not possible to file the motion within the prescribed period. Except as provided in paragraph (c) of this section, the motion will be granted only if good cause is shown for the delay in filing. Motions for modifications of issues which are based on new facts or newly discovered facts shall be filed within 15 days after such facts are discovered by the moving party.

* * * * *

Federal Communications Commission.
William T. Lake,
Chief, Media Bureau.

[FR Doc. 2013-01425 Filed 1-25-13; 8:45 am]

BILLING CODE 6712-01-P